DEPARTMENT OF DEFENSE

Office of the Secretary

[Transmittal No. 19-58]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-58 and Policy Justification.

Dated: January 17, 2020.
Aaron T. Siegel,
Alternate OSD Federal Register Liaison Officer, Department of Defense.

BILLING CODE 5001-06-P

BILLING CODE 5001-06-C

Transmittal No. 19-58

Notice of Proposed Issuance of Letter of Offer Pursuant to Section 36(b)(1) of the Arms Export Control Act, as amended

(i) Prospective Purchaser: Government of Argentina

(ii) Total Estimated Value:

Major Defense Equipment * | $ 0 million
Other | $78.032 million
TOTAL | $78.032 million

(iii) Description and Quantity or Quantities of Articles or Services under Consideration for Purchase:

Major Defense Equipment (MDE):

None

Non-MDE:

Equipment, support and services in support of Argentina's EDA purchase of four (4) P-3C aircraft including, four (4) turboprop engines on each airframe and an additional four (4) turboprop engines. The proposed sale will include communications equipment; radar equipment; Infrared (IR)/Electro-optic (EO) equipment; aircraft depot maintenance; depopulation and repopulation; supply support/spares and repair of repairables; support equipment; publications; training; aviation life support systems; aircraft transportation; logistical and other technical assistance, and other related elements of logistical and program support.

(iv) Military Department: Navy (AR-P-GVQ)

(v) Prior Related Cases, if any: AR-P-SSA, AR-P-GSH, AR-P-GSI, AR-P-GSJ

(vi) Sales Commission, Fee, etc., Paid, Offered, or Agreed to be Paid: None

(vii) Sensitivity of Technology Contained in the Defense Article or Defense Services Proposed to be Sold: None

(viii) Date Report Delivered to Congress: December 19, 2019

* As defined in Section 47(6) of the Arms Export Control Act.

POLICY JUSTIFICATION

Argentina—Support for EDA P-3C Aircraft

The Government of Argentina has requested a possible sale of equipment, support and services in support of Argentina's EDA purchase of four (4) P-3C aircraft, including four (4) turboprop engines on each airframe and an additional four (4) turboprop engines. The proposed sale will include communications equipment; radar equipment; Infrared /Electro-optic equipment; aircraft depot maintenance; depopulation and repopulation; supply support/spares and repair of repairables; support equipment; publications; training; aviation life support systems; aircraft transportation; logistical and other technical assistance, and other related elements of logistical and program support. The total estimated program cost is $78.032 million.

This proposed sale will support the foreign policy and national security of the United States by helping to improve the security of a partner in South America.

Argentina's existing P-3B patrol aircraft have reached the end of their operational service life. To maintain maritime security, Argentina acquired four EDA P-3C aircraft to replace its older aircraft. These EDA aircraft need this refurbishment and equipment to be fully operational. It is vital to the U.S. national interest to assist Argentina in developing and maintaining a strong and ready self-defense maritime patrol aircraft capability. Argentina will have no difficulty absorbing these aircraft into its armed forces.

The proposed sale of this equipment will not alter the basic military balance in the region.

The prime contractors will be Logistic Services International, Jacksonville, FL; Lockheed Martin Aircraft Center, Greenville, SC; Eagle Systems, Jacksonville, FL; and Rockwell Collins, Cedar Rapids, IA. There are no known offset agreements in connection with this potential sale.

Implementation of this proposed sale will require the temporary assignment of approximately 12 U.S. contractor representatives to Argentina to support the program.

There will be no adverse impact on U.S. defense readiness as a result of this proposed sale.

[FR Doc. 2020-01130 Filed 1-23-20; 8:45 am]

BILLING CODE 5001-06-P